DEPARTMENT OF ENERGY

Federal Energy Regulatory Commission

[Docket No. DI08-9-000]

Gary E. Hall; Notice of Declaration of Intention and Soliciting Comments, Protests, and/or Motions To Intervene

July 10, 2008.

Take notice that the following application has been filed with the Commission and is available for public inspection:

a. Application Type: Declaration of Intention.

b. Docket No: DI08-9-000.

c. Date Filed: June 17, 2008.

d. Applicant: Gary E. Hall.

e. Name of Project: Potter Creek Hydroelectric Project.

f. Location: The proposed Potter Creek Hydroelectric Project will be located on Potter Creek, near Olney, in Flathead County, Montana, affecting T. 32 N, R. 24 W, sec. 23, Montana Meridian.

g. Filed Pursuant to: Section 23(b)(1) of the Federal Power Act, 16 U.S.C. 817(b).

h. Applicant Contact: Gary E. Hall, P.O. Box 133, Olney, Montana 59927; telephone: (406) 881-2345; e-mail: www.garius@centurytel.net.

i. FERC Contact: Any questions on this notice should be addressed to Henry Ecton, (202) 502-8768, or e-mail address: henry.ecton@ferc.gov.

j. Deadline for filing comments, protests, and/or motions: August 11, 2008.

All documents (original and eight copies) should be filed with: Kimberly D. Bose, Secretary, Federal Energy Regulatory Commission, 888 First Street, NE., Washington, DC 20426. Comments, protests, and/or interventions may be filed electronically via the Internet in lieu of paper. Any questions, please contact the Secretary's Office. See, 18 CFR 385.2001(a)(1)(iii) and the instructions on the Commission's Web site at http://www.ferc.gov under the “e-Filing link.

Please include the docket number (DI08-9-000) on any comments, protests, and/or motions filed.

k. Description of Project: The proposed Potter Creek Hydropower Project will include: (1) An existing 3-foot-high, 50-foot-long dam impounding a .07-acre-foot reservoir; (2) A proposed 100-foot-long, 4-inch-diameter plastic penstock; (3) A proposed powerhouse containing a 50-Watt generator, directing power into a battery; and (4) appurtenant facilities. The proposed project will not be connected to an interstate grid. The project will occupy federal lands.

When a Declaration of Intention is filed with the Federal Energy Regulatory Commission, the Federal Power Act requires the Commission to investigate and determine if the interests of interstate or foreign commerce would be affected by the project. The Commission also determines whether or not the project: (1) Would be located on a navigable waterway; (2) would occupy or affect public lands or reservations of the United States; (3) would utilize surplus water or water power from a government dam; or (4) if applicable, has involved or would involve any construction subsequent to 1935 that may have increased or would increase the project's head or generating capacity, or have otherwise significantly modified the project's pre-1935 design or operation.

l. Locations of the Application: Copies of this filing are on file with the Commission and are available for public inspection. This filing may be viewed on the Web at http://www.ferc.gov using the “eLibrary” link, select “Docket#” and follow the instructions. For assistance, please contact FERC Online Support at FERCOnlineSupport@ferc.gov or toll-free at (866) 208-3372, or TTY, contact (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “PROTESTS”, AND/OR “MOTIONS TO INTERVENE”, as applicable, and the Docket Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. E8-16299 Filed 7-16-08; 8:45 am]

BILLING CODE 6717-01-P